DEPARTMENT OF AGRICULTURE

Office of the Chief Financial Officer

Agency Programs Subject to Intergovernmental Review

AGENCY: Office of the Chief Financial Officer, USDA.

ACTION: Notice.

SUMMARY: The United States Department of Agriculture (USDA) is publishing an updated list of USDA financial assistance programs which States may choose to review under their Single Point of Contact (SPOC) intergovernmental review processes. These programs are also eligible for intergovernmental review by directly affected State, areawide, regional, and local entities if a State does not have a SPOC or chooses not to review an application for USDA financial assistance. USDA is streamlining the intergovernmental review process.

DATES: The list of financial assistance programs will be posted on the USDA website beginning April 7, 2022 and updated annually.

FOR FURTHER INFORMATION CONTACT: Tyson P. Whitney, Office of the Chief Financial Officer, Director, Transparency and Accountability Reporting Division, United States Department of Agriculture, 1400 Independence Avenue SW, Washington, DC 20250-9011, 202-720-8978, tyson.whitney@usda.gov.

SUPPLEMENTARY INFORMATION: As provided in 2 CFR 415.5, USDA published a notice in the Federal Register on December 4, 1987 (52 FR 46109) which listed USDA financial assistance programs subject to review under Executive Order 12372 and Section 204 of the Demonstration Cities and Metropolitan Development Act (Section 204) and Section 401(a) of the Intergovernmental Cooperation Act of 1968 (Section 401). This notice advises the public of the availability of a current list of USDA programs which States may choose to (1) review under their official Executive Order 12372 SPOC process or (2) are subject to the review process described at 2 CFR 415.9(a) if it does not have a SPOC or elects not to include an USDA program in the SPOC process. Executive Order 12372 exempts tribal programs from intergovernmental review.

As part of a streamlining initiative, rather than posting changes to the list in Federal Register notices, USDA's list of financial assistance programs subject to intergovernmental review will be posted on the USDA Office of the Chief Financial Officer website at https://www.ocfo.usda.gov/FederalFinancialAssistancePolicy. USDA will provide updates to the website annually.

Tyson P. Whitney,
Director, Transparency and Accountability Reporting Division.

[FR Doc. 2022-07399 Filed 4-6-22; 8:45 am]

BILLING CODE 3410-KS-P